DEPARTMENT OF COMMERCE

National Oceanic and Atmospheric Administration

RIN 0648-XD083

Pacific Fishery Management Council; Public Meeting

AGENCY: National Marine Fisheries Service (NMFS), National Oceanic and Atmospheric Administration (NOAA), Commerce.

ACTION: Notice of public meeting.

SUMMARY: The Pacific Fishery Management Council's (Pacific Council) ad hoc Ecosystem Workgroup (EWG) will hold a public work session in Portland, OR. The meeting is open to the public, but is not intended as a public hearing. Public comments will be taken at the discretion of the EWG chair as time allows.

DATES: The work session will begin at 1:30 p.m. on Monday, February 3, 2014 and will proceed until 5 p.m. or until business for the day is completed. The meeting will reconvene on Tuesday, February 4, 2014 at 8:30 a.m. and will proceed until 4 p.m. or until business for the day is completed.

ADDRESSES: The work session will be held at the Pacific Council office, 7700 NE Ambassador Place, Suite 101, Portland, OR 97220-1384, telephone: (503) 820-2280 (voice) or (503) 820-2299 (fax).

FOR FURTHER INFORMATION CONTACT: Mr. Mike Burner, telephone: (503) 820-2280.

SUPPLEMENTARY INFORMATION: The primary purpose of the work session is to develop a range of alternative measures for the protection of unmanaged and unfished forage species. These alternatives are intended to be presented for advanced review and for consideration by the Pacific Council, its advisory bodies, and the public at the April 2014 meeting of the Pacific Council in Vancouver, WA. The EWG may also discuss and consider recommendations to the Pacific Council regarding items of interest on the Pacific Council's March 2014 and/or April 2014 meeting agendas.

Although non-emergency issues not contained in the EWG meeting agendas may come before the EWG for discussion, those issues may not be the subject of formal EWG action during this meeting. EWG action will be restricted to those issues specifically listed in this document and to any issues arising after publication of this document requiring emergency action under Section 305(c) of the Magnuson-Stevens Fishery Conservation and Management Act, provided the public has been notified of the EWG's intent to take final action to address the emergency.

Special Accommodations

This public meeting is physically accessible to people with disabilities. Requests for sign language interpretation or other auxiliary aids should be directed to Mr. Kris Kleinschmidt at (503) 820-2280 (voice), or (503) 820-2299 (fax) at least 5 days prior to the meeting date.

Authority: 16 U.S.C. 1801 et seq.

Dated: January 13, 2014.
Tracey L. Thompson,
Acting Deputy Director, Office of Sustainable Fisheries, National Marine Fisheries Service.

[FR Doc. 2014-00806 Filed 1-16-14; 8:45 am]

BILLING CODE 3510-22-P